DEPARTMENT OF ENERGY

Federal Energy Regulatory Commission

[Docket No. RP04-334-000]

Gulf South Pipeline Company, LP; Notice of Proposed Changes To FERC Gas Tariff

June 24, 2004.

Take notice that on June 16, 2004, Gulf South Pipeline Company, LP (Gulf South) tendered for filing as part of its Sixth Revised Volume No. 1 FERC Gas Tariff, the following tariff sheets, to become effective July 19, 2004:

Second Revised Sheet No. 1407;

Second Revised Sheet No. 1408;

Second Revised Sheet No. 1409;

Second Revised Sheet No. 1410;

Third Revised Sheet No. 1411;

Third Revised Sheet No. 1412;

Third Revised Sheet No. 1413;

Second Revised Sheet No. 1414.

Gulf South is proposing certain clarifications to Sections 7.4 and 7.5 of the General Terms and Conditions of its tariff. Gulf South states that the proposed changes will not modify the basic structure of Gulf South's queue process or posting and bidding requirements; however, it will eliminate certain inconsistencies, clarify certain practices, and provide increased flexibility.

Gulf South states that copies of this filing have been served upon Gulf South's customers, state commissions and other interested parties.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1464 Filed 6-30-04; 8:45 am]

BILLING CODE 6717-01-P